DEPARTMENT OF COMMERCE

National Oceanic and Atmospheric Administration

RIN 0648-XK76

Pacific Fishery Management Council; Public Meeting

AGENCY: National Marine Fisheries Service (NMFS), National Oceanic and Atmospheric Administration (NOAA), Commerce.

ACTION: Notice of a public meeting.

SUMMARY: The Pacific Fishery Management Council's (Council) Salmon Technical Team (STT), Scientific and Statistical Committee (SSC) Salmon Subcommittee, and Model Evaluation Workgroup (MEW) will review proposed salmon methodology changes in a joint work session, which is open to the public.

DATES: The work session will be held Wednesday, October 15, 2008, from 9 a.m. to 4 p.m.

ADDRESSES: The work session will be held at the Marriott Courtyard Portland Airport, Columbia Ballroom, 11550 NE Airport Way, Portland, OR 97220; telephone: (503) 252-3200.

Council address: Pacific Fishery Management Council, 7700 NE Ambassador Place, Suite 101, Portland, OR 97220-1384.

FOR FURTHER INFORMATION CONTACT: Mr. Chuck Tracy, Salmon Management Staff Officer, Pacific Fishery Management Council, (503) 820-2280.

SUPPLEMENTARY INFORMATION: The purpose of the work session is to brief the STT and SSC Salmon Subcommittee on proposed changes to methods and standards used to manage ocean salmon fisheries. The work session will include review of proposed changes to the Sacramento River fall Chinook abundance forecast and harvest model, and a preliminary sensitivity analysis of the Chinook and Coho Fishery Regulation Assessment Models (FRAM).

Although non-emergency issues not contained in the meeting agenda may come before the STT, SSC Salmon Subcommittee, and MEW for discussion, those issues may not be the subject of formal action during this meeting. Action will be restricted to those issues specifically listed in this notice and any issues arising after publication of this notice that require emergency action under Section 305(c) of the Magnuson-Stevens Fishery Conservation and Management Act, provided the public has been notified of the intent to take final action to address the emergency.

Special Accommodations

This meeting is physically accessible to people with disabilities. Requests for sign language interpretation or other auxiliary aids should be directed to Ms. Carolyn Porter at (503) 820-2280 at least 5 days prior to the meeting date.

Dated: September 24, 2008.
Tracey L. Thompson,
Acting Director, Office of Sustainable Fisheries, National Marine Fisheries Service.

[FR Doc. E8-22751 Filed 9-26-08; 8:45 am]

BILLING CODE 3510-22-S